DEPARTMENT OF JUSTICE

Notice of Lodging of a Consent Decree Pursuant to the Comprehensive Environmental Response, Compensation, and Liability Act

Notice is hereby given that a proposed consent decree in United States v. Motorola, Inc., Honeywell International, Inc., and City of Phoenix, Arizona, Civil No. 98-2049 PHX-RCB, was lodged on July 25, 2000, with the United States District Court for the District of Arizona (“Motorola Decree”). The proposed consent Decree would resolve certain claims under Section 107 of the Comprehensive Environmental Response, Compensation, and Liability Act of 1980, 42 U.S.C. 9607, as amended, brought against defendants Motorola, Incorporated, Honeywell International, Inc., and the city of Phoenix, Arizona (collectively “Settling Defendants”), to recover response costs incurred by the Environmental Protection Agency in connection with the release of hazardous substances at Operable Units 1 and 2 of the Motorola 52nd Street Superfund Site in Phoenix, Arizona. The settlers are owners and/or operators of Operable Units 1 and 2 of the Site. Under the proposed Consent Decree, the Settling Defendants will pay $682,500 to the Hazardous Substances Superfund to reimburse the United States for Past Response Costs, 80% of Interim Response Costs, and all Future Oversight Costs. In addition to the proposed Consent Decree, Motorola and Honeywell are completing construction of the interim groundwater remedy for Operable Unit 2 of the site and will perform the first two years of operation and maintenance of the interim remedy.

The Department of Justice will receive, for a period of thirty (30) days from the date of this publication, comments relating to the proposed Consent Decree. Comments should be addressed to the Assistant Attorney General for the Environment and Natural Resources Division, Department of Justice, P.O. Box 7611, Washington, D.C. 20530, and should refer to United States v. Motorola, Inc., et al., D. AZ, Civil No. 98-2049 PHX-RCB, DOJ Ref. #90-11-3-06000.

The Consent Decree may be examined at the Region 9 Office of the Environmental Protection Agency, 75 Hawthorne Street, San Francisco, CA 94105 and the United States Attorney's Office for the District of Arizona, 230 N. First Avenue, Room 4000, Phoenix, AZ 85025 c/o Assistant U.S. Attorney Ronald Gallegos. A copy of the proposed consent decree may be obtained by mail from the Consent Decree Library, Post Office Box 7611, Washington, DC 20044. In requesting copies please refer to the referenced case and enclose a check in the amount of $11.25 (25 cents per page reproduction costs), payable to the Consent Decree Library.

Joel M. Gross,
Chief, Environmental Enforcement Section, Environment and Natural Resources Division.

[FR Doc. 00-20291 Filed 8-9-00; 8:45 am]

BILLING CODE 4410-15-M